ENVIRONMENTAL PROTECTION AGENCY

[FRL-7594-7]

Notice of Public Meeting of the National Environmental Education Advisory Council

Notice is hereby given that the National Environmental Education Advisory Council established under section 9 of the National Environmental Education Act of 1990 (the Act), will hold a public meeting on January 22 and 23, 2004. The meeting will take place 1200 Pennsylvania Ave., NW., Washington, DC from 9 a.m. to 5 p.m. on Thursday, January 22 and Friday, January 23. The purpose of this meeting is to provide the Council with an opportunity to advise EPA's Office of Public Affairs (OPA) and the Office of Environmental Education (OEE) on its implementation of the Act. Members of the public are invited to attend and to submit written comments to EPA following the meeting.

For additional information regarding the Council's upcoming meeting, please contact Ginger Potter, Office of Environmental Education (1704A), Office of Public Affairs, U.S. Environmental Protection Agency, 1200 Pennsylvania Avenue, NW., Washington, DC 20460 or call (202) 564-0453.

Dated: December 3, 2003.
Ginger Potter,
Designated Federal Official, National Environmental Education Advisory Council.

[FR Doc. 03-30268 Filed 12-4-03; 8:45 am]

BILLING CODE 6560-50-M